DEPARTMENT OF THE INTERIOR

U.S. Geological Survey

Agency Information Collection Activities: Submitted for Office of Management and Budget (OMB) Review; Comment Request

AGENCY: U.S. Geological Survey (USGS), Interior.

ACTION: Notice; Request for Comments.

SUMMARY: We (U.S. Geological Survey) have sent an Information Collection Request (ICR) to OMB for review and approval. The ICR, which is summarized below, describes the nature of the collection and the estimated burden and cost. This ICR is scheduled to expire on October 31, 2008. We may not conduct or sponsor and a person is not required to respond to a collection of information unless it displays a currently valid OMB control number. However, under OMB regulations, we may continue to conduct or sponsor this information collection while it is pending at OMB.

DATES: You must submit comments on or before November 20, 2008.

ADDRESSES: Send your comments on this information collection directly to the Office of Management and Budget (OMB), Office of Information and Regulatory Affairs, Attention: Desk Officer for the Department of the Interior via OMB e-mail: (OIRA_DOCKET@omb.eop.gov ); or by fax (202) 395-6566; and identify your submission with #1028-0053.

Please submit a copy of your comments to Phadrea Ponds, Information Collections, U.S. Geological Survey, 2150-C Center Avenue, Fort Collins, CO 80525 (mail); (970) 226-9230 (FAX); or pponds@usgs.gov (e-mail). Use Information Collection Number 1028-0053 in the subject line.

FOR FURTHER INFORMATION CONTACT: To request additional information about this ICR, contact Scott F. Sibley at (703) 648-4976.

SUPPLEMENTARY INFORMATION: OMB Control Number: 1028-0053.

Title: Nonferrous Metals Surveys.

Form Number: Various (31 forms).

Type of Request: Extension of a currently approved collection.

Affected Public: Private Sector.

Respondent Obligation: Voluntary.

Frequency of Collection: Monthly, quarterly, or annually.

Estimated Number and Description of Respondents: Approximately 1,801 producers and consumers of nonferrous and related metals. Respondents are canvassed for one frequency period (e.g., monthly respondents are not canvassed annually).

Estimated Number of Responses: 5,339.

Completion Time per Response: We estimate the public reporting burden for the 31 forms averages 20 minutes to 2 hours per response. This includes the time for reviewing instructions, gathering and maintaining data, and completing and reviewing the information.

Annual burden hours: 3,973.

Abstract: Respondents supply the U.S. Geological Survey with domestic production and consumption data for nonferrous and related nonfuel mineral commodities, some of which are considered strategic and critical. This information will be published as chapters in Minerals Yearbooks, monthly/quarterly Mineral Industry Surveys, annual Mineral Commodity Summaries, and special publications for use by Government agencies, industry, education programs, and the general public.

We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We will release data collected on these forms only in a summary format that is not company-specific.

Comments: To comply with the public consultation process, on April 16, 2008, we published a Federal Register notice (73 FR20706) announcing our intent to submit this information collection to OMB for approval. In that notice, we solicited public comments for 60 days, ending on June 16, 2008. We did not receive any comments concerning the notice. We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

USGS Information Collection Clearance Contact: Phadrea Ponds 970-226-9445.

Dated: October 15, 2008.
John H. DeYoung, Jr.,
Chief Scientist.

[FR Doc. E8-24981 Filed 10-20-08; 8:45 am]

BILLING CODE 4311-AM-P